ENVIRONMENTAL PROTECTION AGENCY

[FRL-7993-9]

National Drinking Water Advisory Council's Working Group on Public Education Requirements of the Lead and Copper Rule Meeting Announcement

AGENCY: Environmental Protection Agency.

ACTION: Notice.

SUMMARY: The U.S. Environmental Protection Agency (EPA) is announcing the second public meeting of the Working Group of the National Drinking Water Advisory Council (NDWAC) on the Public Education Requirements of the Lead and Copper Rule (WGPE). The purpose of this meeting is to provide an opportunity for the WGPE members to continue discussions on the public education requirements of the Lead and Copper Rule.

DATES: The second meeting of the WGPE will be held in Washington, DC, on December 15, 2005, from 8:30 a.m. to 5 p.m. and December 16, 2005, from 8 a.m. to 3 p.m.

ADDRESSES: The WGPE meeting will take place at RESOLVE, Inc., 1255 23rd St., NW., Suite 275, Washington, DC 20037.

FOR FURTHER INFORMATION CONTACT: Interested participants from the public should contact Elizabeth McDermott, Designated Federal Officer, National Drinking Water Advisory Council Working Group on Public Education, U.S. Environmental Protection Agency, Office of Ground Water and Drinking Water, Drinking Water Protection Division (Mail Code 4606M), 1200 Pennsylvania Avenue, NW., Washington, DC, 20460. Please contact Elizabeth McDermott at mcdermott.elizabeth@epa.gov, or call 202-564-1603 to receive additional details.

SUPPLEMENTARY INFORMATION: Background: The charge for the Working Group on the Public Education Requirements of the Lead and Copper Rule (WGPE) is to (1) Review the current public education requirements on lead in drinking water to find and define the need for improvements and make recommendations to the full NDWAC accordingly; (2) develop language for communicating the risk of lead in drinking water and a suggested response to the public; and (3) define the delivery means to the public. The NDWAC established a target date of May 2006 to complete these tasks. The WGPE is comprised of 16 members from drinking water industries, stakeholder organizations, state and local officials, public health officials, environmental organizations, and risk communication experts.

Public Comment: An opportunity for public comment will be provided during the WGPE meeting. Oral statements will be limited to five minutes; it is preferred that only one person present the statement on behalf of a group or organization. Written comments may be provided at the meeting or may be sent by mail to Elizabeth McDermott, Designated Federal Officer for the WGPE, at the mail or e-mail address listed in the FOR FURTHER INFORMATION CONTACT section of this notice.

Special Accommodations: Any person needing special accommodations at this meeting, including wheelchair access, should contact Elizabeth McDermott, Designated Federal Officer for the WGPE, at the number or e-mail address listed in the FOR FURTHER INFORMATION CONTACT section of this notice. Requests for special accommodations should be made at least five business days in advance of the WGPE meeting.

Dated: October 31, 2005.
Cynthia C. Dougherty,
Director, Office of Ground Water and Drinking Water.

[FR Doc. 05-22034 Filed 11-3-05; 8:45 am]

BILLING CODE 6560-50-P